DEPARTMENT OF DEFENSE

Department of the Navy

Record of Decision for the Disposal and Reuse of Naval Air Station Agana, Guam

SUMMARY: The Department of the Navy (Navy), pursuant to Section 102(2)(C) of the National Environmental Policy Act of 1969 (NEPA), 42 U.S.C. § 4332(2)(C) (1994), and the regulations of the Council on Environmental Quality that implement NEPA procedures, 40 C.F.R. Parts 1500-1508, hereby announces its decision to dispose of Naval Air Station (NAS) Agana, which is located in the United States Territory of Guam. Guam is the southernmost island of the Mariana archipelago in the western Pacific Ocean.

Navy analyzed the impacts of the disposal and reuse of NAS Agana in an Environmental Impact Statement (EIS) as required by NEPA. The EIS analyzed four reuse alternatives and identified the NAS Agana Base Reuse Master Plan (Reuse Plan), approved by the Government of Guam on July 8, 1997, and described in the EIS as the Airport/Business/Industry Alternative, as the Preferred Alternative.

The Preferred Alternative proposed to use NAS Agana for commercial aviation; for industrial and commercial activities; to develop parks and recreational areas; and to build and expand roads and highways. The Government of Guam is the local Redevelopment Authority (LRA) for NAS Agana. Department of Defense Rule on Revitalizing Base Closure Communities and Community Assistance (DOD) Rule), 32 C.F.R. § 176.20(a).

Navy intends to dispose of NAS Agana in a manner that is consistent with the Reuse Plan. Navy has determined that the mixed land use proposed for NAS Agana will meet the goals of achieving local economic redevelopment and creating new jobs while limiting adverse environmental impacts and ensuring land uses that are compatible with adjacent property. This Record Of Decision does not mandate a specific mix of land uses. Rather, it leaves selection of the particular means to achieve the proposed redevelopment to the acquiring entities and the local zoning authority.

Background

Under the authority of the Defense Base Closure and Realignment Act of 1990 (DBCRA), Public Law 101-510, 10 U.S.C. § 2687 note (1994), the 1993 Defense Base Closure and Realignment Commission recommended the closure of Naval Air Station Agana. The Commission also recommended that navy retain the Air Station officers housing to support Navy personnel stationed at Andersen Air Force Base in the northern part of Guam. These recommendations were approved by President Clinton and accepted by the One Hundred Third Congress in 1993. Naval Air Station Agana closed on March 31, 1995.

Prior to closure of the Air Station, the A. B. Won Pat Guam International Airport Authority (GIAA) operated the Guam International Airport at NAS Agana through a joint use agreement with Navy. Under this agreement, Guam's International Airport Authority, which owns and operates a passenger terminal and maintenance area adjacent to NAS Agana, used the Naval Air Station runways and taxiways and relied upon Navy's air traffic controllers for civilian air operations. After NAS Agana closed, GIAA assumed responsibility for all air operations and began using Navy's maintenance hangars through a lease with Navy. The Federal Aviation Administration (FAA) currently provides air traffic control services.

The 1995 Defense Base Closure and Realignment Commission modified the 1993 Commission's recommendation by directing Navy to close the officers housing at NAS Agana. The 1995 Commission's recommendation was approved by President Clinton and accepted by the One Hundred Fourth Congress in 1995.

Naval Air Station Agana is located in the central part of Guam, about three miles northeast of the Village of Agana, which has been renamed Hagatna. The area around the base is also known as Tiyan. The Air Station covers an area of about 1,824 acres of Navy property, and Navy controls an additional 208 acres near the Air Station by way of easements for air operations and drainage. Navy plans to transfer its interests in these easements to GIAA. Disposal and reuse of the officers housing, covering 93 acres, were treated in a separate environmental analysis and document.

Naval Air Station Agana is oriented along a northeast-southwest axis and has a generally triangular shape. The base is bounded on the north by a steep bluff and Route 10A; on the east and southeast by Route 16; and on the south by the intersection of Routes 16, 10, and 8; on the southwest by Route 8; and on the west and northwest by Route 1 and Agana Bay.

The Village of Tamuning, the Airport Authority's passenger terminal and maintenance area, and the Harmon industrial area are located north of the base property. The Village of Dededo is located northeast of the Air Station. Barrigada Heights and facilities associated with the United States Naval Computer and Telecommunications Station, Guam are located, respectively, east and southeast of the Air Station. The Village of Barrigada is located south of the Air Station; and the villages of Mongmong, Toto, and Maite are located southwest of the base.

During the Federal screening process, two Federal agencies requested interagency transfers of base closure property at NAS Agana. These were the National Weather Service of the Department of Commerce's National Oceanic and Atmospheric Administration and the Federal Aviation Administration.

On July 23, 1998, Navy transferred three acres just south of the runways to the National Weather Service, which is building a weather forecasting facility on the site. Navy will transfer the control tower and base operations building (Building 17-75) and a transmitter building (Building 16-3231) and two non-contiguous parcels covering about three acres in this part of the base to the Federal Aviation Administration for air traffic control activities. The remaining 1,725 acres of Navy property at NAS Agana are surplus to the needs of the Federal Government.

This Record of Decision addresses the disposal and reuse of those parts of NAS Agana that are surplus to the needs of the Federal Government. The Air Station contains two parallel runways in a northeast-southwest alignment: a 10,000-foot primary runway (Runway 06L-24R) and an 8,000-foot secondary runway (Runway 06R-24L). Navy plans to transfer its interests in the air operations easements and the drainage easements to GIAA. The base contains about 592 buildings and structures that were used for aviation operations, training, housing, administrative and support activities. The surplus property's undeveloped areas on the western side of the base contain wetlands and, on the eastern side of the base, a forest with limestone soil. There is an archaeological site eligible for listing on the National Register of Historic Places in a developed area south of the airfield.

Of the 1,725 acres of surplus property at NAS Agana, about 249 acres are available to the Government of Guam for economic redevelopment. The Government of Guam proposes to develop industrial and commercial facilities on this property.

Navy plans to dispose of the remaining 1,476 acres of surplus property at NAS Agana by way of various public benefit conveyances. Navy plans to convey about 1,361 acres to the Guam International Airport Authority for use as an airport after approval by the United States Department of Transportation. Navy plans to assign about 72 acres to the Federal Highway Administration for subsequent conveyance to the Government of Guam to permit development of the proposed Laderan Tiyan Parkway north of the airfield, Mariner Parkway south of the airfield, and the proposed extension of Route 10 south of the airfield.

Navy plans to assign about 41 acres in the southern part of the base to the United States Department of the Interior for subsequent conveyance to the Government of Guam for use as parks and recreational areas. Navy plans to convey the Air Station's chapel and religious center and two acres in the southern part of the base to the Government of Guam after the United States Department of Housing and Urban Development approves a legally binding agreement between the LRA and homeless assistance providers.

Navy published a Notice Of Intent in the Federal Register on January 22, 1996, announcing that Navy and the FAA as a cooperating agency would prepare an EIS for the disposal and reuse of NAS Agana. Navy held two public scoping meetings in the Government of Guam's Executive Building at Adelup on January 24, 1996. The scoping period concluded on February 23, 1996.

Navy distributed the Draft EIS (DEIS) to Federal and local government agencies, elected officials, community groups and associations, and interested persons on April 9, 1999, and commenced a 45-day public review and comment period. During this period, Federal and local agencies and one person submitted written comments concerning the DEIS. On May 13, 1999, Navy held a public hearing to receive comments on the DEIS at the San Vicente/San Roke Catholic Church's social hall in Barrigada.

Navy's responses to the public comments were incorporated in the Final EIS (FEIS), which was distributed to the public on December 30, 1999, for a review period that concluded on January 28, 2000. Navy did not receive any comments on the FEIS.

Alternatives

NEPA requires Navy to evaluate a reasonable range of alternatives for the disposal and reuse of this surplus Federal property. In the FEIS, Navy analyzed the environmental impacts of four reuse alternatives. Navy also evaluated a “No Action” alternative that would leave the property in caretaker status with Navy maintaining the physical condition of the property, providing a security force, and making repairs essential to safety. Under this alternative, Guam's International Airport would continue to operate under the existing joint use agreement between Navy and GIAA, and there would be no expansion of the airport, no improvement of roadways within the base's boundaries, and no transfers of easements.

In Executive Order No. 94-07, dated July 8, 1994, the Governor of Guam, Joseph F. Ada, established the Komita Para Tiyan to prepare a reuse plan for NAS Agana. The Kometia conducted the planning process for NAS Agana in two parts: it developed an airport master plan for submission to the FAA that proposed civilian reuse of the NAS Agana facilities and it developed a reuse plan for all of the surplus property. The Komitea solicited expressions of interest in reuse and redevelopment of the property and received notices of interest from local government agencies, private businesses, homeless assistance providers, and nonprofit organizations.

The Komitea Para Tiyan developed three reuse proposals designated as business/industry, education/heritage, and housing/community. Each proposed a similar expansion of Guam's International Airport. At four public meetings in November 1994 and at three public meetings in June 1995, the Komitea solicited comments concerning the three reuse proposals. On December 22, 1995, the Komitea solicited comments concerning the three reuse proposals. On December 22, 1995, the Kometea adopted the business/industry alternative and approved the NAS Agana Base Reuse Master Plan. In letters to the Department of Defense and the Department of Housing and Urban Development (HUD) dated December 26, 1995, the Governor of Guam, Carl T.C. Gutierrez, submitted this reuse plan to the Federal Government.

In a letter to HUD dated July 8, 1997, Governor Gutierrez submitted modifications to the December 1995 reuse plan. The Governor designated two acres in the southern part of the base for use by homeless assistance providers. Additionally, the modifications changed the proposed use of 27 acres in the western part of the base from parks and recreational activities to airport operations and changed the proposed use of 20 acres in the eastern part of the base from industrial and commercial activities to airport operations.

In Executive Order No. 97-27, dated October 16, 1997, Governor Gutierrez disestablished the Komitea Para Tiyan and established the Base Realignment And Closure GovGuam Steering Committee. He assigned the BRAC GovGuam Steering Committee responsibility for coordinating all future redevelopment at NAS Agana.

The Reuse Plan, identified in the FEIS as the Preferred Alternative, proposed a mix of land uses for NAS Agana. The Preferred Alternative would develop commercial aviation, industrial, and commercial activities as well as parks and recreational areas. it will be necessary to make utility infrastructure and roadway improvements to support the Reuse Plan's proposed redevelopment of NAS Agana.

The Preferred Alternative would expand Guam's International Airport to increase its air traffic capacity. By the full build-out year of 2015, the number of annual aircraft operations would increase from 87,000 to 123,400. The primary runway (06L-24R) would be extended from 10,000 to 12,000 feet (1,000 feet to the northeast and 1,000 feet to the southwest), and the secondary runway (06R-24L) would be extended from 8,000 to 11,000 feet (1,000 feet to the southwest and 2,000 feet to the northeast). This Alternative would build two new taxiways, one north of the primary runway and one south of the secondary runway. It would build a new air traffic control tower, a cargo terminal, a general aviation terminal and service center, aircraft maintenance facilities, and training facilities. It would also reserve land for future expansion of the passenger terminal, additional flight kitchens, and aviation businesses such as an express package and cargo hub.

The Preferred Alternative proposed to build several new roadways and to expand other roadways. This Alternative would build the Laderan Tiyan Parkway north of the airport's operations area to provide an alternate access to the passenger terminal from route 8 on the base's south and southwest boundary. This roadway would also provide a link to a proposed north-south bypass road that would connect the Village of Tamuning with the base and communities located south of the base.

In the southern part of the base, the preferred Alternative would expand mariner Avenue, a northeast-southwest road on the base, and rename it Mariner Parkway. This roadway would provide access to airport-related activities to the north as well as to the industrial and commercial activities and parks and recreational areas to the south. It would also serve as a regional transportation link between the villages of Dededo and Cabras. The Preferred Alternative would expand Seagull Avenue between Mariner Parkway and the intersection of Routes 16, 10, and 8 at the southern tip of the base.

The Preferred Alternative proposed to reserve about 30 acres on the bluff north of the airport, overlooking the village of Tamuning, for parks and recreational uses such as walking paths, bike paths, and picnic areas. On about 340 acres located north and south of the runways and taxiways, this Alternative proposed to develop airport-related commercial facilities. To the north, these facilities could include offices for businesses interested in a prime airport location, a trade exhibition center, a 200-room hotel, and educational facilities such as an hotel school. To the south, just north of the proposed Mariner Parkway, the Preferred Alternative would develop facilities for commercial activities related to the airport such as express package services, an airframe and power plant school, light industrial activities, storage, and freight forwarders.

In the southern part of the base, south of the proposed Mariner Parkway, the Preferred Alternative proposed to develop industrial and commercial activities that would include retail stores to serve the Barrigada community. On about 41 acres, it would develop new recreational facilities and reuse the existing sports facilities as an Olympics training center. The Preferred Alternative designated the Air Station's chapel and religious center and two acres located in the center of the industrial and commercial area for use by homeless assistance providers.

Navy analyzed a second “action” alternative, described in the FEIS as Alternative 2, the Airport/Education/Heritage Alternative. Alternative 2 proposed expanding the airport and building extensive roadway improvements similar to those proposed by the Preferred Alternative. In Alternative 2, however, there would be less airport-related development and fewer industrial and commercial activities than proposed in the Preferred Alternative. Instead, the Alternative would emphasize educational and cultural activities and parks and recreational areas and would provide housing.

Alternative 2 would expand the airport's operations by extending both runways and by building two new taxiways. This Alternative would also build a new air traffic control tower, a cargo terminal, a general aviation terminal and service center, aircraft maintenance facilities, and training facilities. It would reserve land for future expansion of the passenger terminal, additional flight kitchens, and aviation businesses such as an express package and cargo hub.

Alternative 2 proposed to build several new roadways to expand other roadways similar to those proposed by the Preferred Alternative. This Alternative would build the Laderan Tiyan Parkway north of the airport's operations area to provide an alternate access to the passenger terminal from Route 8. This roadway would also provide a link to a proposed north-south bypass road that would connect the Village of Tamuning with the base and communities located south of the base.

In the southern part of the base, Alternative 2 would expand Mariner Avenue and rename it Mariner Parkway. This roadway would provide access to airport-related activities to the north as well as to the housing, educational and cultural facilities, industrial and commercial activities, and parks and recreational ares to the south. It would also serve as a regional transportation link between the villages of Dededo and Cabras. Alternative 2 would expand Seagull Avenue between Mariner Parkway and the intersection of Routes 16, 10, and 8 to the south.

In the western part of the base, just south of the officers housing site, Alternative 2 would develop industrial activities. East of the officers housing site, this Alternative would develop educational and cultural facilities and open space an recreational areas. It would also build housing on the bluff north of the airport, overlooking the Village of Tamuning, and establish a parks and recreational area there. In the northeast corner of the base, there would be a large open space and recreational area around the existing ironwood trees.

South of the northeast ends of the runways and taxiways, along the southeast boundary of the Air Station, Alternative 2 would preserve a forest with limestone soil. Along the southwest boundary, from the intersection of Routes 16, 10, and 8, to the southwest ends of the runways and taxiways, it would reserve land for open space and recreation areas. Alternative 2 also proposed to establish a coconut plantation in this area.

South of the proposed Mariner Parkway, Alternative 2 would build an educational and cultural center. This center could include a high school, a vocational training school, and university research facilities. Adjacent to the educational center, this Alternative would build housing and retail stores for students, faculty, and workers. It would also develop industrial activities here. Alternative 2 designated the Air Station's chapel and religious center and two acres located in the educational and cultural area for use by homeless assistance providers.

Navy analyzed a third “action” alternative, described in the FEIS as Alternative 3, the Airport/Housing/Community Alternative. Alternative 3 proposed expanding the airport and building extensive roadway improvements similar to those proposed by the Preferred Alternative. In Alternative 3, however, there would be less airport-related development and fewer industrial and commercial activities than proposed in the Preferred Alternative. Instead, this Alternative would emphasize housing and parks and recreational areas and would provide educational and cultural facilities.

Alternative 3 would expand the airport's operations by extending both runways and by building two new taxiways. This Alternative would also build a new air traffic control tower, a cargo terminal, a general aviation terminal and service center, aircraft maintenance facilities, and training facilities. It would reserve land for future expansion of the passenger terminal, additional flight kitchens, and aviation businesses such as an express package and cargo hub.

Alternative 3 proposed to build several new roadways and to expand other roadways similar to those proposed by the Preferred Alternative. This Alternative would build the Laderan Tiyan Parkway north of the airport's operations area to provide an alternate access to the passenger terminal from Route 8. This roadway would also provide a link to a proposed north-south bypass road that would connect the Village of Tamuing with the base and communities located south of the base.

In the southern part of the base, Alternative 3 would expand Mariner Avenue and rename it Mariner Parkway. Under Alternative 3, this roadway would be a local access road rather than a regional transportation link as proposed in the Preferred Alternative. The Parkway would provide access to the airport-related activities to the north as well as to the housing, educational and cultural facilities, industrial and commercial activities, and parks and recreational areas to the south. Alternative 3 would also expand Seagull Avenue between Mariner Parkway and the intersection of Routes 16, 10, and 8 to the south.

In the western part of the base, south of the officers housing site, Alternative 3 would develop industrial and commercial activities. On the bluff north of the airport, overlooking the Village of Tamuning, Alternative 3 would build cultural and educational facilities such as an hotel school. It also proposed to reserve part of the bluff for open space and recreational areas.

South of the airport operations area, Alternative 3 would preserve a forest with limestone soil on the east side and establish a coconut plantation on the west side. Between the forest and the coconut plantation, on each side of Mariner Parkway, this Alternative would build industrial and commercial facilities for airport-related activities. It would designate the Air Station's chapel and religious center and two acres located in this area for use by homeless assistance providers. South of Mariner Parkway, it would also build single-family and multi-family housing, community facilities, a new high school, and a town center with retail stores for the Barrigada community.

Navy analyzed a fourth “action” alternative, described in the FEIS as Alternative 4, the Airport/Requestor Alternative. This Alternative incorporated requests made during the public scoping process that were not included in the Komitea's three reuse proposals. Alternative 4 proposed expanding the airport and building new roads similar to those proposed in the Preferred Alternative. In Alternative 4, however, there would be less airport-related development and fewer industrial and commercial activities than proposed in the Preferred Alternative. Instead, this Alternative would emphasize government and business activities and parks and recreational areas and would provide educational and cultural facilities and housing.

Alternative 4 would expand the airport's operations by extending both runways and by building two new taxiways. This Alternative would also build a new air traffic control tower, a cargo terminal, a general aviation terminal and service center, aircraft maintenance facilities, and training facilities. It would reserve land for future expansion of the passenger terminal, additional flight kitchens, and aviation businesses such as an express package and cargo hub.

Alternative 4 proposed to build several new roadways and to expand other roadways similar to those proposed by the Preferred Alternative. This Alternative would build the Laderan Tiyan Parkway north of the airport's operations area to provide an alternate access to the passenger terminal from Route 8. This roadway would also provide a link to a proposed north-south bypass road that would connect the Village of Tamuning with the base and communities located south of the base.

In the southern part of the base, Alternative 4 would expand Mariner Avenue and rename it Mariner Parkway. Under Alternative 4, this roadway would be a local access road rather than a regional transportation link as proposed in the Preferred Alternative. The Parkway would provide access to the airport-related and government and business activities to the north as well as to the government and business activities, educational and cultural facilities, housing, industrial and commercial activities, and parks and recreational areas to the south. Alternative 4 would also expand Seagull Avenue between Mariner Parkway and the intersection of Routes 16, 10, and 8 to the south.

Alternative 4 proposed to develop about 260 acres located north and south of the runways and taxiways for airport-related commercial activities. This Alternative would reserve land for open space and recreational areas in three locations: south of the officers housing site; on the bluff north of the airport overlooking the Village of Tamuning; and in the northeast part of the base. Additionally, Alternative 4 would build government and private offices on part of the bluff. Educational and cultural facilities would also be built in this area.

In the southern part of the base, on either side of Mariner Parkway, Alternative 4 would develop facilities for government and private offices and retail stores. This Alternative would use the existing barracks in this area for housing. South of the proposed Mariner Parkway, Alternative 4 would develop educational and cultural facilities and reserve land for parks and recreational areas. It also designated the Air Station's chapel and religious center and two acres located in the educational and cultural area for use by homeless assistance providers.

Environmental Impacts

Navy analyzed the direct, indirect, and cumulative impacts of the disposal and reuse of this surplus Federal property. The FEIS addressed the impacts of the Preferred Alternative, the Airport/Education/Heritage Alternative, the Airport/Housing/Community Alternative, the Airport/Requestor Alternative, and the “No Action” Alternative for each alternative's effects on soils, drainage, water quality, terrestrial resources, noise, land use compatibility, roads and traffic, infrastructure, air quality, socioeconomics, public services, cultural resources, and environmental contamination. This Record Of Decision focuses on the impacts that would likely result from implementation of the Reuse Plan, identified in the FEIS as the Preferred Alternative.

The Preferred Alternative would not have a significant impact on soils. The requirements that would be imposed by the Guam Environmental Protection Agency would minimize soil erosion resulting from new construction. The potential for contaminating soil during redevelopment would be minimized by complying with regulatory requirements, Best Management Practices (BMP), and spill prevention plans. The base does not lie within a floodplain zone.

The Preferred Alternative would not have a significant impact on stormwater runoff and drainage. While the Preferred Alternative would increase the amount of stormwater runoff by 43 percent as a result of the increase in impervious surfaces, runoff will be managed in accordance with Federal and local regulatory requirements, such as the use of ponding basins that would collect and hold runoff during storms. There is sufficient open space available to accommodate the ponding basins.

The Preferred Alternative would not have a significant impact on the quality of groundwater. The potential for future groundwater contamination would be minimized by complying with regulatory requirements, BMP's, and spill prevention plans.

The Preferred Alternative would not have a significant impact on terrestrial resources. Navy held informal consultations with the United States Fish and Wildlife Service pursuant to Section 7 of the Endangered Species Act of 1973, 16 U.S.C § 1536 (1994). In a letter dated November 8, 1999, the Fish And Wildlife Service concurred with Navy's determination that the disposal and reuse of NAS Agana is not likely to adversely affect the Federally-listed endangered Mariana common moorhen (Gallinula chloropus guami). The Service's concurrence was based upon Navy's assurance that Navy will erect a fence around a one-acre freshwater marsh and its upland buffer in the southwestern part of the base and will include a restrictive covenant in the deed requiring maintenance of the upland buffer area around this marsh. In an earlier site visit on September 23, 1999, Navy, the Fish And Wildlife Service, the United States Army Corps of Engineers, the Guam Environmental Protection Agency, the Guam Division of Aquatic and Wildlife Resources, and the Guam Economic Development Authority agreed to incorporate the requirement for a fenced buffer area around this marsh in a restrictive covenant.

The Preferred Alternative would have a significant noise impact on certain residents in Agana Heights and on the Mongmong, Toto, and Maite villages located southwest of the base. Notwithstanding the increase in proposed commercial aviation operations, the exposure to noise from aircraft would be less than when Navy operated military jet aircraft at the base. However, while the substantial reduction in military jet aircraft operations and the introduction of quieter Stage III commercial aircraft would reduce the noise impact, this impact would still exceed the Federal standards for residential exposure to noise in those areas. The Village of Dededo northeast of the airfield would not experience a residential noise impact in excess of Federal standards. The Preferred Alternative did not propose to build any new residential areas.

The nature and extent of mitigation measures to address the noise impacts would be determined in accordance with the Federal Airport Noise Compatibility Planning Regulation set forth at 14 CFR Part 150. Guam's International Airport Authority has received funding from the FAA to proceed with a noise compatibility study that will identify measures to reduce noise levels.

Noise generated by industrial and commercial activities and on roadways could increase compared with pre-closure levels, but this increase is not expected to be substantial. Additionally, noise attenuation treatments can be applied so that noise levels are compatible with adjacent land use. To comply with Guam's environmental regulations, it may be necessary for the acquiring entities to conduct environmental assessments of proposed projects so that project planning incorporates appropriate mitigation for noise impacts.

The Preferred Alternative would not have a significant impact on land use compatibility. The land uses proposed for NAS Agana would be generally compatible with each other and with existing land uses in the adjacent areas. The view of the bluff north of the airport from the Village of Tamuning below could change as a result of building the north-south bypass road and other structures on the bluff. This visual impact would be minimized by selecting a road alignment that requires the least amount of excavation and by imposing building height and setback limits along the bluff.

The Preferred Alternative would have significant impacts on traffic. By the year 2015, this Alternative would generate about 9,000 peak hour trips compared with the 1,358 peak hour trips that were experienced when the base was an active Air Station.

The proposed Laderan Tiyan Parkway would reduce the amount of traffic using Route 1, because it would provide an alternate access route to the passenger terminal at the airport. The proposed north-south bypass road connecting Route 30 and Route 8 would also reduce the amount of traffic using Route 1, because it would provide direct access to the Village of Tamuning and to Tumon Bay from the communities located south of the Air Station. The proposed Mariner Parkway would take some traffic from Routes 8 and 16, by providing an alternate route between the villages of Dededo and Cabras.

Notwithstanding the development of these new roads, the projected level of traffic would still generate substantial delays at nearly all of the intersections along Routes 1, 8, and 16. However, under the “No Action” Alternative, traffic delays at the intersections along Route 1 would be greater than those generated by the Preferred Alternative, because neither the proposed Laderan Tiyan Parkway nor the north-south bypass road would be built.

The Preferred Alternative would have significant impacts on potable water pressure, wastewater treatment capacity, and the demand for electricity. This Alternative would also have a significant cumulative impact on solid waste.

While the supply of potable water is greater than the demand that would be generated by the Preferred Alternative, the 10-inch (diameter) water lines on the base do not maintain sufficient water pressure to provide adequate fire protection during peak periods of water use. Consequently, it would be necessary to install additional water lines or replace the 10-inch water lines.

The Government of Guam's Agana Wastewater Treatment Plant does not have any excess capacity that could be used to treat the additional wastewater that would be generated under the Preferred Alternative. However, there is adequate excess capacity to treat wastewater at Guam's Northern District Wastewater Treatment Plant. Consequently, it would be necessary to redirect wastewater from the Agana Plant to the Northern District Plant. Additionally, sections of major sewer lines on the base do not have sufficient capacity to support the proposed redevelopment; thus, it would be necessary to replace those sewer lines.

There is not enough reserve generating capacity on Guam to supply the proposed redevelopment with sufficient electricity. The redevelopment's projected annual consumption of electricity would exceed the Air Station's annual consumption of electricity and would also exceed the available excess generating capacity on the island. As a result, implementation of the Preferred Alternative would require the development of additional facilities to generate and transmit electricity. In addition, it would be necessary to rebuild the electrical distribution infrastructure at NAS Agana to meet the increased demand for electricity.

The Preferred Alternative assumed that the new landfill at Guatali would replace the Ordot Landfill, which has no excess capacity and will close. Solid waste generated by the Preferred Alternative and other planned developments on the island would reduce the projected life of the new landfill. The acquiring entities, however, could take actions recommended by Guam's Integrated Solid Waste Management Plan such as the reuse, recovery, and recycling of solid waste that would reduce the cumulative impact to a less than significant level.

The Preferred Alternative would not have a significant impact on air quality. Compliance with the regulatory requirements that control emissions such as the Clean Air Act, 42 U.S.C. 7401-7671q (1994), and Guam's Air Pollution Control Standards and Regulations, Guam Public Law 24-322 (1998), would prevent significant impacts from stationary sources. If the roadway improvements described in the Reuse Plan were implemented, there would not be a significant regional or local impact on air quality from mobile sources. There would not be a significant impact on air quality from aircraft operations as a result of expanding the airport. However, further analysis by the Guam International Airport Authority would be required to ensure that the proposed increase in airport operations after expansion does not exceed National Ambient Air Quality Standards.

The Preferred Alternative would not have any adverse impacts on socioeconomic. It would create bout 4,500 jobs that would generate a payroll of about $20 million per year. These jobs would constitute only about 10% of the new jobs to be generated on Guam over the 20-year development period. Because the total projected job growth on Guam would exceed the projected population growth, it would be necessary to bring people to Guam to fill about 25% of the new jobs that would be created. This impact would be spread out over the 20-year development period. Thus, any social effects arising out of the migration of workers would be minimized. There would be sufficient time for the Government of Guam and the business community to develop training programs and employee the business community to develop training programs and employee support services and to ensure that an adequate work force is available when needed.

The Preferred Alternative would have a significant impact on Guam's police and fire protection services. The establishment of new businesses and the development of regional roadways associated with redevelopment of the Air Station would place substantial demands on the police and fire departments. It would be necessary to increase the police and fire department. It would be necessary to increase the police and fire protection budgets by about 20 to 30 percent to satisfy these demands. The Preferred Alternative would not have a significant impact on Guam's health care services.

The Preferred Alternative would not have a significant impact on cultural resources. Pursuant to Section 106 of the National Historic Preservation Act of 1966, U.S.C. 470f (1994), Navy conducted a cultural resource assessment and determined that one archaeological site, Site 1562-T18, is eligible for listing on the National Register of Historic Places. This site is believed to be a temporary occupation site from the early latte period, an historical period for the Mariana Islands between 1200 A.D. and 1700 A.D., prior to European contact. Radiocarbon dating and ceramic analysis establish this site as one of the oldest sites identified on the northern plateau of Guam.

Navy will include protective deed covenants in the conveyance documents to ensure protection and preservation of this archaeological site during redevelopment. In a letter dated May 24, 1999, the Guam Historic Preservation Officer concurred with Navy's determination that there would not be any adverse effect arising out of disposal and reuse of the Air Station if this archaeological site was protected by a deed covenant. In a letter dated July 8, 1999, the Advisory Council on Historic Preservation also concurred with Navy's determination.

The Preferred Alternative would not have a significant impact on the environment arising out of the use of petroleum products or the use or generation of hazardous substances by the acquiring entities. Hazardous materials used and hazardous wastes generated by the Reuse Plan will be managed in accordance with Federal and local laws and regulations.

Implementation of the Preferred Alternative would not have any impact on existing environmental contamination at the Air Station. Navy will inform future property owners about the environmental condition of the property and may, when appropriate, include restrictions, notifications, or covenants in deeds to ensure the protection of human health and the environment in light of the intended use of the property.

Executive Order 12898, Federal Actions to Address Environmental Justice in Minority Populations and Low-Income Populations, 3 CFR 859 (1995), requires that Navy determine whether any low income and minority populations will experience disproportionately high and adverse human health or environmental effects from the proposed action. Navy analyzed the impacts on low income and minority populations pursuant to Executive Order 12898. The FEIS addressed the potential environmental, social, and economic impacts associated with the disposal of NAS Agana and subsequent reuse of the property under the various proposed alternatives. Minority and low income populations residing within the region will not be disproportionately affected.

Navy also analyzed the impacts on children pursuant to Executive Order 13045, Protection of Children from Environmental Health Risks and Safety Risks, 3 CFR 198 (1998). Under the Preferred Alternative, there would not be any large concentration of children, because the Reuse Plan emphasizes aviation, industrial, and commercial redevelopment. The Preferred Alternative would not impose any disproportionate environmental health or safety risks on children.

Mitigation

Implementation of Navy's decision to dispose of NAS Agana does not require Navy to implement any mitigation measures. Navy will take certain actions to implement existing agreements and regulations. These actions were treated in the FEIS as agreements or regulatory requirements rather than as mitigation. Navy will erect a fence around the one-acre freshwater marsh and upland buffer in the southwestern part of the Air Station.

The FEIS identified and discussed those actions that will be necessary to mitigate the impacts associated with the reuse and redevelopment of NAS Agana. The acquiring entities, under the direction of Federal and local agencies with regulatory authority over protected resources, will be responsible for implementing necessary mitigation measures.

Comments Received on the Final EIS

Navy did not receive any comments on the Final EIS.

Regulations Governing the Disposal Decision

Since the proposed action contemplates a disposal under the Defense Base Closure and Realignment Act of 1990 (DBCRA), Public Law 101-510, 10 U.S.C. § 2687 note (1994), Navy's decision was based upon the environmental analysis in the FEIS and application of the standards set forth in the DBCRA, the Federal Property Management Regulations (FPMR), 41 CFR Part 101-47, and the Department of Defense Rule on Revitalizing Base Closure Communities and Community Assistance (DoD Rule), 32 CFR Parts 174 and 175.

Section 101-47.303-1 of the FPMR requires that disposals of Federal property benefit the Federal Government and constitute the “highest and best use” of the property. Section 101-47.4909 of the FPMR defines the “highers and best use” as the use to which a property can be put that produces the highest monetary return from the property, promotes its maximum value, or serves a public or institutional purpose. The “highest and best use” determination must be based upon the property's economic potential, qualitative values inherent in the property, and utilization factors affecting land use such a zoning, physical characteristics, other private and public uses in the vicinity, neighboring improvements, utility services, access, road, location, and environmental and historic considerations.

After Federal property has been conveyed to non-Federal entities, the property is subject to local land use regulations, including zoning and subdivision regulations, and building codes. Unless expressly authorized by statute, the disposing Federal agency cannot restrict the future use of surplus Government property. As as result, the local community exercises substantial control over future use of the property. For this reason, local land use plans and zoning affect determination of the “highest and best use” of surplus Government property.

The DBCRA directed the Administrator of the General Services Administration (GSA) to delegate to the Secretary of Defense authority to transfer and dispose of base closure property. Section 2905(b) of the DBCRA directs the Secretary of Defense to exercise this authority in accordance with GSA's property disposal regulations, set forth in Part 101-47 of the FPMR. By letter dated December 20, 1991, the Secretary of Defense delegated the authority to transfer and dispose of base closure property closed under the DBCRA to the Secretaries of the Military Departments. Under this delegation of authority, the Secretary of Navy must follow FPMR procedures for screening and disposing of real property when implementing base closures. Only when Congress has expressly provided additional authority for disposing of base closure property, e.g., the economic development conveyance authority established in 1993 by Section 2905(b) of the DBCRA, may Navy apply disposal procedure other that those in the FPMR.

In Section 2901 of the National Defense Authorization Act for Fiscal Year 1994, Public Law 103-160, Congress recognized the economic hardship occasioned by base closures, the Federal interest in facilitating economic recovery of base closure communities, and the need to identify and implement reuse and redevelopment of property closing installations. In Section 2903(c) or Public Law 103-160, Congress directed the Military Departments to consider each base closure community's economic needs and priorities in this property disposal process. Under Section 2905(b)(2)(E) of the DBCRA must consult with local communities before disposes of base closure property and must consider local plans developed for reuse and redevelopment of the surplus Federal property.

The Department of Defense's goal, as set forth in Section 174.4 of the DoD Rule, is to help base closure communities achieve rapid economic recovery through expeditious reuse and redevelopment of the assets at closing bases, taking into consideration local market conditions and locally developed reuse plans. Thus, the Department has adopted a consultative approach with each community to ensure that property disposal decisions consider the LRA's reuse plan and encourage job creation. As a part of this cooperative approach, the base closure community's interests, as reflected in its zoning for the area, play a significant role in determining the range of alternatives considered in the environmental analysis for property disposal. Furthermore, Section 175.(d)(3) of the DoD Rule provides that the LRA's plan generally will be used as the basis for the proposed disposal action.

The Federal Property and Administrative Services Act of 1949, 40 U.S.C. § 484 (1994), as implemented by the FPMR, identifies several mechanisms for disposing of surplus base closure property: by public benefit conveyance (FPMR Sec. 101-47.303-2); by negotiated sale (FPMR Sec. 10-47.304-9) and by competitive sale (FPMR 101-47.304-7). Additionally, in Section 2905(b)(4), the DBCRA established economic development conveyances as a means of disposing of surplus base closure property.

The selection of any particular method of conveyance merely implements the Federal agency's decision to dispose of the property. Decisions concerning whether to undertake a public benefit conveyance or an economic development conveyance, or to sell property by negotiation or by competitive bid, are left to the Federal agency's discretion. Selecting a method of disposal implicates a broad range of factors and rests solely within the Secretary of the Navy's discretion.

Conclusion

The LRA's proposed reuse of NAS Agana, reflected in the Reuse Plan, is consistent with the prescriptions of the FPMR and Section 174.4 of the DoD Rule. The LRA has determined in its Reuse Plan that the property should be used for various purposes including commercial aviation, industrial, commercial, and parks and recreational activities. The property's location, physical characteristics, existing infrastructure, and use as a civilian airport make it appropriate for the proposed uses.

The proposed reuse of NAS Agana responds to local economic conditions, promotes rapid economic recovery from the impact of the Air Station's closure, and is consistent with President Clinton's Five-Part Plan for Revitalizing Base Closure Communities, which emphasizes local economic redevelopment and creation of new jobs as the means to revitalize these communities, 32 C.F.R. Parts 174 and 175, 59 Fed. Reg. 16,123 (1994).

Although the “No Action” Alternative has less potential for causing adverse environmental impacts, this Alternative would not take advantage of the property's location, physical characteristics, and infrastructure. Additional, it would not foster local economic redevelopment of the base and expansion of Guam's International Airport.

The acquiring entities, under the direction of Federal and local agencies with regulatory authority over protected resources, will be responsible for adopting practicable means to avoid or minimize environmental harm that may result from implementing the Reuse Plan.

Accordingly, Navy will dispose of Naval Air Station Agana in a manner that is consistent with the Government of Guam's Reuse Plan for the property.

Dated: May 9, 2000.
William J. Cassidy, Jr.,
Deputy Assistant Secretary of the Navy (Conversion and Redevelopment).

[FR Doc. 00-12964 Filed 5-22-00; 8:45 am]

BILLING CODE 3810-FF-M